DEPARTMENT OF ENERGY

Federal Energy Regulatory Commission

[Project Nos. 12689-000, 12692-000]

Public Utility District No. 1 of Snohomish County, WA; Notice Granting Late Intervention

November 16, 2006.

On June 22, 2006, the Commission issued separate notices of the preliminary permit applications filed by Public Utility District No. 1 of Snohomish County, Washington, for the Spieden Channel Tidal Energy Project No. 12689, to be located in Spieden Channel in San Juan County, Washington, and the San Juan Channel Tidal Energy Project No. 12692, to be located in San Juan Channel in San Juan County, Washington. The notices established August 21, 2006, as the deadline for filing motions to intervene.

On August 24, 2006, Pomona Grange #50 San Juan County, Washington, filed a late motion to intervene in the proceedings.¹ Granting the motion to intervene will not unduly delay or disrupt the proceedings, or prejudice other parties to them. Therefore, pursuant to Rule 214,² the motion to intervene filed by the Pomona Grange #50 San Juan County, Washington, is granted, subject to the Commission's rules and regulations.

¹ Pomona Grange #50 San Juan County, Washington, filed its motion at 5:54 p.m. on August 23, 2006. Pursuant to 18 CFR 385.2001(a)(2)(2006), any document received after regular business hours is considered filed on the next business day. The Commission's regular business hours end at 5 p.m., U.S. Eastern Time. See http://www.ferc.gov/contact-us/build-access.asp. See also, 18 CFR 375.101(c)(the offices of the Commission are open each day, except Saturdays, Sundays, and Holidays, from 8:30 a.m. to 5 p.m.)

² 18 CFR 385.214 (2006).

Magalie R. Salas,
Secretary.

[FR Doc. E6-19925 Filed 11-24-06; 8:45 am]

BILLING CODE 6717-01-P